DEPARTMENT OF TRANSPORTATION

Federal Transit Administration

Amended Notice of Limitation on Claims Against Proposed Public Transportation Project

AGENCY: Federal Transit Administration (FTA), DOT.

ACTION: Amended Notice of Limitation on Claims.

SUMMARY: This notice amends the notice of final environmental actions taken by the Federal Transit Administration (FTA) for the project in the following location: King County, WA. The purpose of this amended notice is to correct a prior notice of limitation of claims for this project and provide notice of a finding of Section 106 adverse impacts by the project. This amended notice will act to activate the limitation on any claims that may challenge these final environmental actions.

DATES: By this notice, FTA is advising the public of final agency actions subject to Section 139(l) of Title 23, United States Code (U.S.C.). A claim seeking judicial review of the FTA actions announced herein for the listed public transportation project will be barred unless the claim is filed on or before June 13, 2012.

FOR FURTHER INFORMATION CONTACT: Nancy-Ellen Zusman, Assistant Chief Counsel, Office of Chief Counsel, (312) 353-2577, or Terence Plaskon, Environmental Protection Specialist, Office of Human and Natural Environment, (202) 366-0442. FTA is located at 1200 New Jersey Avenue SE., Washington, DC 20590. Office hours are from 9 a.m. to 5:30 p.m., EST, Monday through Friday, except Federal holidays.

SUPPLEMENTARY INFORMATION: The prior notice of limitation of claims at 26 Federal Register 72746 (November 25, 2011) is amended to read that the project has a Section 106 adverse impact instead of no impact. The project and actions that are the subject of this notice are:

1. Project name and location: East Link Light Rail Transit Project, King County, WA. Project sponsor: Central Puget Sound Regional Transit Authority (Sound Transit). Project description: The project extends the current light rail system an additional 18 miles from Downtown Seattle to Mercer Island and Bellevue along Interstate 90 (I-90), and then through Bellevue to Overlake and Redmond in the Puget Sound region of Washington State. The project includes 12 stations, four park-and-ride lots, and supporting facilities. The project also includes storage tracks and facilities located just north of the Hospital Station to allow for overnight storage of vehicles and daily startup operations. Final agency actions: Section 4(f) determination; Section 106 finding of adverse effect; regional and project-level air quality conformity; and Record of Decision, dated November 2011. Supporting documentation: East Link Final Environmental Impact Statement, dated July 2011.

Issued on: December 13, 2011.
Lucy Garliauskas,
Associate Administrator for Planning and Environment, Washington, DC.

[FR Doc. 2011-32305 Filed 12-15-11; 8:45 am]

BILLING CODE P